DEPARTMENT OF COMMERCE

National Oceanic and Atmospheric Administration

RIN: 0648-XD63

Caribbean Fishery Management Council; Public Meeting

AGENCY: National Marine Fisheries Service (NMFS), National Oceanic and Atmospheric Administration (NOAA), Commerce.

ACTION: Notice of a public meeting.

SUMMARY: The Caribbean Fishery Management Council will hold a second scoping meeting in St. Croix, U.S. Virgin Islands.

DATES: The meeting will be held on November 13, 2007, from 7 p.m. to 10 p.m.

ADDRESSES: The meeting will be held at the Curriculum Center, Department of Education, Estate Kingshill, St. Croix, U.S.V.I.

FOR FURTHER INFORMATION CONTACT: Caribbean Fishery Management Council, 268 Munoz Rivera Avenue, Suite 1108, San Juan, Puerto Rico 00918-2577; telephone: (787) 766-5926.

SUPPLEMENTARY INFORMATION: The Caribbean Fishery Management Council in conjunction with the National Marine Fisheries Service intends to prepare Draft Environmental Impact Statements (DEISs) to describe and analyze management alternatives to be included in amendments to the Fishery Management Plans (FMPs) for the spiny lobster, reeffish, and queen conch fisheries of Puerto Rico and the U.S. Virgin Islands. The alternatives include: no action; to require escape vents of various sizes and shapes in traps and pots; to extend the seasonal closure for queen conch or set an annual quota; or to close the fishery for this species in the exclusive economic zone (EEZ) off St. Croix, U.S.V.I. Also, the Council seeks input to implement a size limit on imports of spiny lobster into the USA. The purpose of this scoping meeting is to solicit comments from agencies and the general public on the scope of issues to be addressed by the Council.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. For more information or request for sign language interpretation and/other auxiliary aids, please contact Mr. Miguel A. Rolon, Executive Director, Caribbean Fishery Management Council, 268 Munoz Rivera Avenue, Suite 1108, San Juan, Puerto Rico 00918-2577, telephone: (787) 766-5926, at least 5 days prior to the meeting date.

Dated: October 24, 2007.
Tracey L. Thompson,
Acting Director, Office of Sustainable Fisheries, National Marine Fisheries Service.

[FR Doc. E7-21198 Filed 10-26-07; 8:45 am]

BILLING CODE 3510-22-S